DEPARTMENT OF DEFENSE

Office of the Secretary

Defense Advisory Committee on Investigation, Prosecution, and Defense of Sexual Assault in the Armed Forces; Notice of Federal Advisory Committee Meeting

AGENCY: General Counsel of the Department of Defense, Department of Defense (DoD).

ACTION: Notice of Federal Advisory Committee meeting.

SUMMARY: The DoD is publishing this notice to announce that the following Federal Advisory Committee meeting of the Defense Advisory Committee on Investigation, Prosecution, and Defense of Sexual Assault in the Armed Forces (DAC-IPAD) will take place.

DATES: Open to the public, Friday, February 14, 2020, from 9:00 a.m. to 3:30 p.m.

ADDRESSES: The Westin Arlington Gateway Hotel, 801 N Glebe Road, Arlington, VA 22203 Arlington, Virginia.

FOR FURTHER INFORMATION CONTACT: Dwight Sullivan, 703-695-1055 (Voice), dwight.h.sullivan.civ@mail.mil (Email). Mailing address is DAC-IPAD, One Liberty Center, 875 N Randolph Street, Suite 150, Arlington, Virginia 22203. Website: http://dacipad.whs.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the sixteenth public meeting held by the DAC-IPAD. At this meeting the Committee will receive testimony from former military judges about their views on the current military justice system and military sexual assault cases—including their perspectives on the conviction and acquittal rates for sexual assault. The Committee will conduct final deliberations on its draft Fourth Annual Report. The Committee will also receive updates from the DAC-IPAD's Case Review, Policy, and Data Working Groups regarding each group's ongoing projects. Finally, DAC-IPAD staff will provide updates to the Committee on the military installation site visit plan for members in 2020; sexual assault court-martial attendance by Committee members; and the new tasks for the DAC-IPAD contained in the National Defense Authorization Act for Fiscal Year 2020.

Agenda: 9:00 a.m.-9:05 a.m. Public Meeting Begins—Welcome and Introduction; 9:05 a.m.-11:00 a.m. Military Judges' Perspectives Regarding the Military Justice System and Military Sexual Assault Cases—Including Conviction and Acquittal Rates; 11:00 a.m.-11:15 a.m. Break; 11:15 a.m.-12:00 p.m. Committee Deliberations on the Military Judges' Testimony; 12:00 p.m.-1:00 p.m. Lunch; 1:00 p.m.-1:30 p.m. Committee Final Deliberations on the DAC-IPAD's Draft Fourth Annual Report Chapter 1—Sexual Assault Case Review Project Observations; and Case Review Working Group Update; 1:30 p.m.-2:00 p.m. Committee Final Deliberations on the DAC-IPAD's Draft Fourth Annual Report Chapter 3—Article 32, UCMJ, Preliminary Hearings and the Convening Authority's Disposition Decision; and Policy Working Group Update; 2:00 p.m.-2:30 p.m. Committee Final Deliberations on the DAC-IPAD's Draft Fourth Annual Report Chapter 2—Case Adjudication Data; Chapter 4—Collateral Misconduct; and Committee Vote on Complete Report; 2:30 p.m.-2:45 p.m. Break; 2:45 p.m.-2:55 p.m. 2020 Military Installation Site Visit Update and Members Attending Sexual Assault Courts-Martial Update; 2:55 p.m.-3:15 p.m. New DAC-IPAD Tasks FY 2020 National Defense Authorization Act Presentation and Discussion; 3:15 p.m.-3:30 p.m. Meeting Wrap-Up and Public Comment; 3:30 p.m. Public Meeting Adjourned.

Meeting Accessibility: Pursuant to 5 U.S.C. 552b and 41 CFR 102-3.140 through 102-3.165, and the availability of space, this meeting is open to the public. Seating is limited and is on a first-come basis. Individuals requiring special accommodations to access the public meeting should contact the DAC-IPAD at whs.pentagon.em.mbx.dacipad@mail.mil at least five (5) business days prior to the meeting so that appropriate arrangements can be made. In the event the Office of Personnel Management closes the government due to inclement weather or for any other reason, please consult the website for any changes to the public meeting date or time.

Written Statements: Pursuant to 41 CFR 102-3.140 and section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. Oral statements from the public will be permitted, though the number and length of such oral statements may be limited based on the time available and the number of such requests. Oral presentations by members of the public will be permitted from 3:20 p.m. to 3:30 p.m. on February 14, 2020, in front of the Committee members.

Dated: January 21, 2020.
Aaron T. Siegel,
Alternate OSD Federal Register Liaison Officer, Department of Defense.

[FR Doc. 2020-01209 Filed 1-23-20; 8:45 am]

BILLING CODE 5001-06-P